DEPARTMENT OF COMMERCE

International Trade Administration

[A-570-875]

Non-Malleable Cast Iron Pipe Fittings From the People's Republic of China: Continuation of Antidumping Duty Order

AGENCY: Enforcement and Compliance, International Trade Administration, Department of Commerce.

SUMMARY: As a result of the determinations by the U.S. Department of Commerce (Commerce) and the U.S. International Trade Commission (ITC) that revocation of the antidumping duty (AD) order on non-malleable cast iron pipe fittings (pipe fittings) from the People's Republic of China (China) would likely lead to continuation or recurrence of dumping, and material injury to an industry in the United States, Commerce is publishing a notice of continuation of the AD order.

DATES: Applicable January 16, 2025.

FOR FURTHER INFORMATION CONTACT: Thomas Martin, AD/CVD Operations, Office IV, Enforcement and Compliance, International Trade Administration, U.S. Department of Commerce, 1401 Constitution Avenue NW, Washington, DC 20230; telephone: (202) 482-3936.

SUPPLEMENTARY INFORMATION:

Background

On April 7, 2003, Commerce published in the Federal Register the AD order on pipe fittings from China.¹ On June 3, 2024, the ITC instituted,² and Commerce initiated,³ the fourth sunset review of the Order, pursuant to section 751(c) of the Tariff Act of 1930, as amended (the Act). As a result of its review, Commerce determined that revocation of the AD Order would likely lead to continuation or recurrence of dumping, and therefore, notified the ITC of the magnitude of the margins of dumping rates likely to prevail should the Order be revoked.⁴

¹ See Notice of Antidumping Duty Order: Non-Malleable Cast Iron Pipe Fittings from the People's Republic of China, 68 FR 16765 (April 7, 2003) (Order).

² See Non-Malleable Cast Iron Pipe Fittings from China; Institution of a Five-Year Review, 89 FR 47610 (June 3, 2024).

³ See Initiation of Five-Year (Sunset) Review, 89 FR 47525 (June 3, 2024).

⁴ See Non-Malleable Cast Iron Pipe Fittings from the People's Republic of China: Final Results of the Expedited Fourth Sunset Review of the Antidumping Duty Order, 89 FR 81424 (October 8, 2024), and accompanying Issues and Decision Memorandum.

On January 10, 2025, the ITC published its determination, pursuant to sections 751(c) and 752(a) of the Act, that revocation of the Order would likely lead to continuation or recurrence of material injury to an industry in the United States within a reasonably foreseeable time.⁵

⁵ See Non-Malleable Cast Iron Pipe Fittings from China Determination, 90 FR 2022 (January 10, 2025) (ITC Final Determination).

Scope of the Order

The merchandise subject to the Order are finished and unfinished non-malleable cast iron pipe fittings. See the appendix to this notice for the full scope of the Order.

Continuation of the Order on Non-Malleable Cast Iron Pipe Fittings From China

As a result of the determinations by Commerce and the ITC that revocation of the Order would likely lead to continuation or recurrence of dumping, and material injury to an industry in the United States, pursuant to section 751(d)(2) of the Act and 19 CFR 351.218(a), Commerce hereby orders the continuation of the Order. U.S. Customs and Border Protection will continue to collect AD cash deposits at the rates in effect at the time of entry for all imports of subject merchandise. The effective date of the continuation of the Order will be January 10, 2025.⁶ Pursuant to section 751(c)(2) of the Act and 19 CFR 351.218(c)(2), Commerce intends to initiate the next sunset review of the Order not later than 30 days prior to the fifth anniversary of the effective date of this continuation.

⁶ See ITC Final Determination.

Administrative Protective Order (APO)

This notice also serves as the only reminder to parties subject to an APO of their responsibility concerning the return, destruction, or conversion to judicial protective order of proprietary information disclosed under APO in accordance with 19 CFR 351.305(a)(3). Timely written notification of the return or destruction of APO materials or conversion to judicial protective order is hereby requested. Failure to comply with this request is a violation of the APO which may be subject to sanctions.

Notification to Interested Parties

This five-year sunset review and this notice are in accordance with sections 751(c) and 751(d)(2) of the Act and this notice is published pursuant to section 777(i) of the Act and 19 CFR 351.218(f)(4).

Dated: January 10, 2025.
Steven Presing,
Acting Deputy Assistant Secretary for Policy and Negotiations.

Appendix

The merchandise subject of the Order are finished and unfinished non-malleable cast iron pipe fittings with an inside diameter ranging from ¼ inch to 6 inches, whether threaded or unthreaded, regardless of industry or proprietary specifications. The subject fittings include elbows, ells, tees, crosses, and reducers as well as flanged fittings. These pipe fittings are also known as “cast iron pipe fittings” or “gray iron pipe fittings.” These cast iron pipe fittings are normally produced to ASTM A-126 and ASME B.16.4 specifications and are threaded to ASME B1.20.1 specifications. Most building codes require that these products are Underwriters Laboratories (UL) certified. The scope does not include cast iron soil pipe fittings or grooved fittings or grooved couplings. Also, certain brake fluid tube connectors are excluded from the scope of the Order.⁷ Commerce did not include the certain brake fluid tube connectors exclusion scope language in the 2019 continuation notice.

⁷ See Non-Malleable Cast Iron Pipe Fittings From The People's Republic of China: Continuation of Antidumping Duty Order, 79 FR 8437 (February 12, 2014). To be excluded, the connector must meet the following description: The connector is a ”joint block” for brake fluid tubes and is made of non-malleable cast iron to Society of Automotive Engineers (SAE) automotive standard J431. The tubes have an inside diameter of 3.44 millimeters (0.1355 inches) and the inside diameters of the fluid flow channels of the connector are 3.2 millimeters (0.1260 inches) and 3.8 millimeters (0.1496 inches). The end of the tube is forced by pressure over the end of a flared opening in the connector also known as “flared joint.” The flared joint, once made fast, permits brake fluid to flow through channels that never exceed 3.8 millimeters (0.1496 inches) in diameter.

Fittings that are made out of ductile iron that have the same physical characteristics as the gray or cast iron fittings subject to the scope above or which have the same physical characteristics and are produced to ASME B.16.3, ASME B.16.4, or ASTM A-395 specifications, threaded to ASME B1.20.1 specifications and UL certified, regardless of metallurgical differences between gray and ductile iron, are also included in the scope of the Order. These ductile fittings do not include grooved fittings or grooved couplings. Ductile cast iron fittings with mechanical joint ends (MJ), or push on ends (PO), or flanged ends and produced to American Water Works Association (AWWA) specifications AWWA C110 or AWWA C153 are not included. Imports of covered merchandise are classifiable in the Harmonized Tariff Schedule of the United States (HTSUS) under item numbers 7307.11.00.30, 7307.11.00.60, 7307.19.30.60 and 7307.19.30.85. HTSUS subheadings are provided for convenience and customs purposes. The written description of the scope of the Order is dispositive.

[FR Doc. 2025-00991 Filed 1-15-25; 8:45 am]

BILLING CODE 3510-DS-P